ENVIRONMENTAL PROTECTION AGENCY

40 CFR Part 271

[FRL-7101-8]

New York: Final Authorization of State Hazardous Waste Management Program Revisions

AGENCY: Environmental Protection Agency (EPA).

ACTION: Proposed rule.

SUMMARY: New York has applied to EPA for final authorization of changes to its hazardous waste program under Solid Waste Disposal Act, as amended, commonly referred to as the Resource Conservation and Recovery Act (RCRA). EPA proposes to grant final authorization to New York for these changes which are described in the “Rules and Regulations” section of this Federal Register. In that section, EPA is authorizing the changes by an immediate final rule. EPA did not make a proposal prior to the immediate final rule because we believe this action is not controversial and do not expect comments that oppose it. We have explained the reasons for this authorization in the preamble to the immediate final rule. Unless we get written comments which oppose this authorization during the comment period, the immediate final rule will become effective on the date it establishes, and we will not take further action on this proposal. If we get comments that oppose this action, we will withdraw the portion of the immediate final rule that is the subject of the comments, and it will not take effect. We will then respond to those public comments opposing this authorization in a second final authorization notice. This second final notice may or may not include changes based on comments received during the public notice comment period. You may not have another opportunity for comment. If you want to comment on this action, you must do so at this time.

DATES: Send your written comments by December 17, 2001.

ADDRESSES: Send written comments to Michael Infurna, Division of Environmental Planning and Protection, EPA, Region 2, 290 Broadway, 22nd Floor, New York, NY 10007, Phone number: (212) 637-4177 or e-mail: Infurna.Michael@epamail.epa.gov. You can examine copies of the materials submitted by New York during business hours at the following locations: EPA Region II Library, 290 Broadway, 16th Floor, New York, NY 10007, Phone number: (212) 637-3185; or New York State Department of Environmental Conservation, Division of Solid and Hazardous Materials, 625 Broadway, Albany, NY 12233-7250, Phone number: (518) 402-8730.

FOR FURTHER INFORMATION CONTACT: Michael Infurna, Division of Environmental Planning and Protection, EPA Region 2, 290 Broadway, 22nd floor, New York, NY 10007, Phone number (212) 637-4177.

SUPPLEMENTARY INFORMATION: For additional information, please see the immediate final rule published in the “Rules and Regulations” section of this Federal Register.

Dated: October 29, 2001.
William J. Muszynski,
Acting Regional Administrator, Region 2.

[FR Doc. 01-28628 Filed 11-15-01; 8:45 am]

BILLING CODE 6560-50-P